DEPARTMENT OF TRANSPORTATION

Federal Aviation Administration

14 CFR Part 71

[Docket No. FAA-2023-2482; Airspace Docket No. 23-AAL-26]

RIN 2120-AA66

Modification of Class E Airspace; Edward G. Pitka Sr. Airport, Galena, AK

AGENCY: Federal Aviation Administration (FAA), DOT.

ACTION: Final rule.

SUMMARY: This action modifies the Class E airspace designated as a surface area and modifies the Class E airspace extending upward from 700 feet above the surface at Edward G. Pitka Sr. Airport, Galena, AK. Additionally, this action contains administrative actions that update the airport's geographic coordinates in the legal description to match the FAA database. These actions support the safety and management of instrument flight rules (IFR) operations at the airport.

DATES: Effective date 0901 UTC, July 11, 2024. The Director of the Federal Register approves this incorporation by reference action under 1 CFR part 51, subject to the annual revision of FAA Order JO 7400.11 and publication of conforming amendments.

ADDRESSES: A copy of the Notice of Proposed Rulemaking (NPRM), all comments received, this final rule, and all background material may be viewed online at www.regulations.gov using the FAA Docket number. Electronic retrieval help and guidelines are available on the website. It is available 24 hours each day, 365 days each year.

FAA Order JO 7400.11H, Airspace Designations and Reporting Points, and subsequent amendments can be viewed online at www.faa.gov/air_traffic/publications/. You may also contact the Rules and Regulations Group, Office of Policy, Federal Aviation Administration, 800 Independence Avenue SW, Washington DC 20591; telephone: (202) 267-8783.

FOR FURTHER INFORMATION CONTACT: Keith T. Adams, Federal Aviation Administration, Western Service Center, Operation Support Group, 2200 S. 216th Street, Des Moines, WA 98198, telephone: (206) 231-2428.

SUPPLEMENTARY INFORMATION:

Authority for This Rulemaking

The FAA's authority to issue rules regarding aviation safety is found in Title 49 of the United States Code. Subtitle I, Section 106, describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it modifies Class E airspace to support IFR operations at Edward G. Pitka Sr. Airport, Galena, AK.

History

The FAA published a notice of proposed rulemaking for Docket No. FAA-2023-2482 in the Federal Register (89 FR 2520; January 16, 2024), proposing to amend Class E airspace at Edward G. Pitka Sr, Airport, Galena, AK. Interested parties were invited to participate in this rulemaking effort by submitting written comments on the proposal to the FAA. No comments were received.

Differences From the NPRM

When identifying the Class E airspace extending upward from 700 feet or more above the surface of the earth, an inadvertent text was entered in line one of the text header for type of airspace. The appropriate designation of E5 was entered in the airport's legal texts in the Final Rule.

Incorporation by Reference

Class E2 and E5 airspace areas are published in paragraph 6002 and 6005, respectively, of FAA Order JO 7400.11, Airspace Designations and Reporting Points, which is incorporated by reference in 14 CFR 71.1 on an annual basis. This document amends the current version of that order, FAA Order JO 7400.11H, dated August 11, 2023, and effective September 15, 2023. FAA Order JO 7400.11H is publicly available as listed in the ADDRESSES section of this document. These amendments will be published in the next update to FAA Order JO 7400.11.

FAA Order JO 7400.11H lists Class A, B, C, D, and E airspace areas, air traffic service routes, and reporting points.

The Rule

This action amends 14 CFR part 71 by modifying the Class E airspace area designated as a surface area and modifying the Class E airspace extending upward from 700 feet above the surface at Edward G. Pitka Sr. Airport, Galena, AK.

The Class E airspace area designated as a surface area is reduced to 4.1-mile radius around the airport. The reduction in airspace efficiently contains IFR departure operations until reaching 700 feet above the surface or the next adjacent controlled airspace.

The Class E airspace area extending upward from 700 feet above the surface is modified to contain aircraft executing IFR arrival procedures descending through 1,500 feet above the surface. The modification more appropriately contains the airport's instrument arrival approaches' final bearings and final bearing protected airspaces.

Finally, the FAA amended the airport's legal description. The airport's geographic coordinates have been updated to match the FAA's database.

Regulatory Notices and Analyses

The FAA has determined that this regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5.a. This airspace action is not expected to cause any potentially significant environmental impacts, and no extraordinary circumstances exist that warrant preparation of an environmental assessment.

List of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g), 40103, 40113, 40120; E.O. 10854, 24 FR 9565, 3 CFR, 1959-1963 Comp., p.389.

§ 71.1 [Amended]

2. The incorporation by reference in 14 CFR 71.1 of FAA Order JO 7400.11H, Airspace Designations and Reporting Points, dated August 11, 2023, and effective September 15, 2023, is amended as follows:

Paragraph 6002 Class E Airspace Area Designated as a Surface Area.

* * * * *

AAL AK E2 Galena, AK [Amended]

Edward G. Pitka Sr. Airport, AK

(Lat. 64°44′10′′ N., long. 156°56′4″ W.)

That airspace extending upward from the surface within a 4.1-mile radius of the airport.

* * * * *

Paragraph 6005 Class E Airspace Area Extending Upward From 700 Feet or More Above the Surface of the Earth.

* * * * *

AAL AK E5 Galena, AK [Amended]

Edward G. Pitka Sr. Airport, AK

(Lat. 64°44′10″ N., long. 156°56′4″ W.)

That airspace extending upward from 700 feet above the surface within a 6.6-mile radius of the airport, within 4.8 miles of each side of the airport's 086° bearing extending to 20.2 miles east of the airport, and within 2.1 miles each side of the airport's 269° bearing extending to 12.2 miles west of the airport; that airspace extending upward from 1,200 feet above the surface within a 73-mile radius of the airport.

* * * * *

Issued in Des Moines, Washington, May 1, 2024.
B.G. Chew,
Group Manager, Operations Support Group Western Service Center.

[FR Doc. 2024-10254 Filed 5-15-24; 8:45 am]

BILLING CODE 4910-13-P